ENVIRONMENTAL PROTECTION AGENCY

[ER-FRL-6691-5]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in FR dated April 6, 2007 (92 FR 17156).

Draft EISs

EIS No. 20070213, ERP No. D-DOE-A09834-00, FutureGen Project, Planning, Design, Construction and Operation of a Coal Fueled Electric Power and Hydrogen Gas Production Plant, Four Alternative Sites: Mattoon, IL, Tuscola, IL, Jewett, TX, and Odessa, TX.

Summary: EPA expressed environmental concerns about impacts to wetlands and the cumulative impacts of water use, and recommended that the DEIS provide more details on how many wetlands may be impacted at each alternative site and that a cumulative impacts evaluation be conducted for at least the 50-year operational life of the project.

Rating EC2.

EIS No. 20070231, ERP No. D-UAF-A11078-00, Common Battlefield Airmen Training (CBAT) Program, Proposes to Implement the CBAT Program at One of Three Installations: Moody Air Force Base (AFB), near Valosta, GA; Barkdale AFB in Bossier City, LA; and Arnold AFB near Manchester, TN.

Summary: EPA does not object to the proposed project.

Rating LO.

EIS No. 20070312, ERP No. D-USN-K11119-HI, Hawaii Range Complex (HRC) Project, To Support and Maintain Navy Pacific Fleet Training, and Research, Development, Test, and Evaluation (RDT&E) Operations, Kauai, Honolulu, Maui and Hawaii Counties, HI.

Summary: EPA expressed environmental concern about impacts to marine resources from mid-frequency active sonar use and recommended analysis of additional alternatives.

Rating EC2.

EIS No. 20070316, ERP No. D-FHW-E40815-00, Northern Corridor Interstate 73 Project, Proposes Construct from I-95 to Future Interstate 74, Marlboro and Dillion Counties, SC and Richmond County, NC.

Summary: EPA expressed environmental concerns about wetland, stream, prime farmland, and noise impacts, and requested additional information on these issues be provided and that mitigation measures be developed.

Rating EC1.

EIS No. 20070326, ERP No. D-FTA-G59002-TX, University Corridor Fixed Guideway Project, To Implement Transit Improvements from Hillcroft Transit Center to the Vicinity of the University of Houston (UH)—Central Campus or the Eastwood Transit Center, City of Houston, Harris County, TX.

Summary: While EPA had no objections to the proposed action, we requested clarification of some air quality issues.

Rating LO.

Final EISs

EIS No. 20070347, ERP No. F-FRC-G03032-TX, Calhoun Point Comfort Liquefied Natural Gas (LNG) Project, (Docket Nos. CP05-91-000 and CP06-380-00) Construction of New Pipeline on 73 acres, Port of Port Lavaca, Calhoun and Jackson Counties, TX.

Summary: No formal comment letter was sent to the preparing agency.

EIS No. 20070348, ERP No. F-NPS-G65103-NM, Bandelier National Monument, Ecological Restoration Plan, Reestablish Healthy, Sustainable Vegetative Conditions within the Pinon-Juniper Woodland, Los Alamos and Sandoval Counties, NM.

Summary: No formal comment letter was sent to the preparing agency.

EIS No. 20070355, ERP No. F-FRC-G03035-00, Southeast Supply Header Project, Construction and Operation of Natural Gas Pipeline Facilities, Located in various Counties and Parishes in LA, MS and AL.

Summary: While EPA's previous issues have been resolved, we requested clarification of some EJ and wetlands issues.

EIS No. 20070371, ERP No. F-BLM-J65473-WY, Eagle Butte West Coal Lease Application, Issuance of Lease for a Tract of Federal Coal, Wyoming Powder River Basin, Campbell County, WY.

Summary: No formal comment letter was sent to the preparing agency.

EIS No. 20070328, ERP No. FS-BLM-J67026-MT, Golden Sunlight Mine Pit Reclamation Alternatives, Preferred Alternative Selected is the Underground Sump Alternative, Operating Permit No. 00065 and Plan-of-Operation #MTM 82855, Whitehall, Jefferson County, MT.

Summary: EPA continues to have environmental concerns about the long-term environmental impacts to water quality.

Dated: September 25, 2007.
Robert W. Hargrove,
Director, NEPA Compliance Division, Office of Federal Activities.

[FR Doc. E7-19229 Filed 9-27-07; 8:45 am]

BILLING CODE 6560-50-P